DEPARTMENT OF COMMERCE

Economic Development Administration

The National Advisory Council on Innovation and Entrepreneurship: Meeting of the National Advisory Council on Innovation and Entrepreneurship

AGENCY: U.S. Department of Commerce.

ACTION: Notice of an open meeting.

SUMMARY: The National Advisory Council on Innovation and Entrepreneurship will hold a meeting on Tuesday, December 13, 2011. The open meeting will be conducted from 10 a.m. to 12 p.m., and will be open to the public via a listen-only conference number (888) 989-4718, passcode NACIE. The Council was chartered on November 10, 2009, to advise the Secretary of Commerce on matters relating to innovation and entrepreneurship in the United States.

DATES: December 13, 2011.

Time: 10 a.m.-12 p.m. (EST).

ADDRESSES: The meeting will be held in the Herbert C. Hoover Building, 1401 Constitution Avenue NW., Washington, DC 20230-0002. For audio participation, please specify any requests for reasonable accommodation of auxiliary aids at least five business days in advance of the meeting. Last minute requests will be accepted, but may be impossible to fill.

SUPPLEMENTARY INFORMATION: The purpose of this meeting is for Secretary Bryson to discuss NACIE's earlier work, review its priorities, and offer his charge to the members. Specific topics for discussion include NACIE's current focus on issues related to implementing the America Invents Act and supporting development of regional economic frameworks. The agenda may change to accommodate NACIE business. The final agenda will be posted on the NACIE Web site at http://www.eda.gov/nacie. Any member of the public may submit pertinent written comments concerning the Council's affairs at any time before and after the meeting. Comments may be submitted to O. Felix Obi at the contact information indicated below. Copies of meeting minutes will be available within 90 days of the meeting at http://www.eda.gov/NACIE

FOR FURTHER INFORMATION CONTACT: O. Felix Obi, Office of Innovation and Entrepreneurship, Room 7019, 1401 Constitution Avenue NW., Washington, DC, 20230, telephone: (202) 482-3688, email: fobi@eda.doc.gov. Please reference, “NACIE December 13, 2011” in the subject line of your email.

Dated: November 23, 2011.
Paul J. Corson,
Office of Innovation and Entrepreneurship, U.S. Department of Commerce.

[FR Doc. 2011-30750 Filed 11-28-11; 8:45 am]

BILLING CODE 3510-03-P